DEPARTMENT OF AGRICULTURE

Submission for OMB Review; Comment Request

February 4, 2008.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal Plant and Health Inspection Service

Title: Importation of Hass Avocado from Mexico

OMB Control Number: 0579-0129

Summary of Collection: The Animal and Plant Health Inspection Service (APHIS) of the Department of Agriculture is responsible for preventing plant diseases or insect pests from entering the United States, preventing the spread of pests not widely distributed in the United States, and eradicating those imported when eradication is feasible. The Plant Protection Act (7 U.S.C. 7701-7772) authorizes APHIS to carry out this mission. APHIS will collect information from a variety of individuals, both within and outside of the United States, who are involved in growing, packing, handling, transporting, and importing foreign logs, trees, shrubs, and other articles. APHIS regulations allow fresh Hass Avocado fruit grown in approved orchards in Michoacan, Mexico to be imported into the United States under certain conditions.

Need and Use of the Information: APHIS will collect information using form PPQ 587 “Application for Permit to Import Plants or Plant Products,” to ensure that fresh Hass Avocados from Mexico do not harbor insect pests (including Avocado stem weevils, seed weevils, and seed moths). The information collected will ensure that fresh Hass Avocados from Mexico do not harbor exotic insect pests.

Description of Respondents: Business or other for profit; Federal Government.

Number of Respondents: 2,205.

Frequency of Responses: Recordkeeping; Reporting: On occasion.

Total Burden Hours: 107,061.

Ruth Brown,
Departmental Information Collection Clearance Officer.

[FR Doc. E8-2306 Filed 2-7-08; 8:45 am]

BILLING CODE 3410-34-P